DEPARTMENT OF DEFENSE

Office of the Secretary

Notification of an Open Meeting of the National Defense University Board of Visitors (BOV); Cancellation

AGENCY: National Defense University, DoD.

ACTION: Notice of open meeting; cancellation.

SUMMARY: On April 27, 2012 (77 FR 25150), the National Defense University Board of Visitors gave notice of a date correction to an open meeting that was to be held on May 2, 2012, from 10:00 a.m. to 5:00 p.m. Subsequent to the publication of that notice, Department of Defense learned that the May 2 meeting would be cancelled. This notice announcing the cancellation is publishing in the Federal Register after the May 2 open meeting was to have been held.

DATES: The meeting was to have been held on May 2, 2012 from 10:00 a.m. to 5:00 p.m. This meeting was cancelled.

ADDRESSES: The Board of Visitors meeting would have been held at Marshall Hall, Building 62, Room 155, the National Defense University, 300 5th Avenue SW., Fort McNair, Washington, DC 20319-5066.

FOR FURTHER INFORMATION CONTACT: The point of contact for this notice is Ms. Dolores Hodge at (202) 685-0082, Fax (202) 685-3748 or HodgeD@ndu.edu.

Dated: April 30, 2012.
Aaron Siegel,
Alternate OSD Federal Register Liaison Officer, Department of Defense.

[FR Doc. 2012-10667 Filed 5-2-12; 8:45 am]

BILLING CODE 5001-06-P